DEPARTMENT OF DEFENSE

Office of the Secretary

National Security Education Board (NSEB); Notice of Federal Advisory Committee Meeting

AGENCY: Under Secretary of Defense for Personnel and Readiness (USD(P&R)), Department of Defense (DoD).

ACTION: Notice of Federal Advisory Committee meeting.

SUMMARY: The DoD is publishing this notice to announce that the following Federal Advisory Committee meeting of the National Security Education Board (NSEB) will take place.

DATES: Open to the public on Thursday, September 12th, 2024 from 10:00 a.m. Eastern Standard Time (EST) to 4:00 p.m. EST.

ADDRESSES: The meeting will be held at Washington Marriott Georgetown 1221 22nd St. NW, Washington, DC 20037. Please contact Ms. Alison Patz by phone, (571) 329-3894, or email (alison.m.patz.civ@mail.mil) for information about attending the meeting.

FOR FURTHER INFORMATION CONTACT: Ms. Alison Patz, (571) 329-3894 (Voice), alison.m.patz.civ@mail.mil (Email). Mailing address is National Security Education Program (NSEP), 4800 Mark Center Drive, Suite 08G08, Alexandria, VA 22350-7000. Website: https://dlnseo.org/Governance/NSEB.

SUPPLEMENTARY INFORMATION: This meeting is being held under the provisions of chapter 10 of title 5, United States Code (U.S.C.) (commonly known as the “Federal Advisory Committee Act” or “FACA”), 5 U.S.C. 552b (commonly known as the “Government in the Sunshine Act”), and 41 CFR 102-3.140 and 102-3.150.

Purpose of the Meeting: The purpose of the meeting is to review and make recommendations to the Secretary of Defense concerning requirements established by the David L. Boren National Security Education Act, Title VII of Public Law 102-183, as amended.

Agenda: Thursday, September 12th, 2024 from 10:00 a.m. to 4:00 p.m. the NSEB will begin with opening comments from the Board Chair and ADFO followed by a briefing on recent NSEP accomplishments, to include updates regarding Project Global Officer, the Language Training Centers, the Language Flagship, and the National Language Service Corps. This will be followed with a Service Statistics and Federal Outreach Discussion, as well as a Hiring Official discussion panel from NSEP's four priority agencies. The meeting will continue with a panel discussion of recently returned Boren Scholars and Fellows, followed by working group discussion. General discussion and closing remarks by the Chair and the ADFO will adjourn the meeting.

Meeting Accessibility: Pursuant to 5 U.S.C. 552b and 41 CFR 102-3.140 through 102-3.165, and the availability of space, this meeting is open to the public, subject to the availability of space.

Special Accommodations: Individuals requiring special accommodations to access the public meeting should contact Ms. Alison Patz at alison.m.patz.civ@mail.mil (email) or (571) 329-3894 (voice) no later than Monday, September 2, 2023, so that appropriate arrangements can be made.

Written Statements: This meeting is being held under the provisions of the FACA of 1972 (5 U.S.C., Appendix, as amended), the Government in the Sunshine Act of 1976 (5 U.S.C. 552b, as amended), and 41 CFR 102-3.140 and 102-3.150. Pursuant to 41 CFR 102-3.140 and sections 10(a)(3) of the FACA of 1972, the public or interested organizations may submit written statements to the DoD NSEB about its mission and functions. Written statements may be submitted at any time or in response to the stated agenda of the planned meeting. All written statements shall be submitted to the point of contact at the email address or phone number listed in the FOR FURTHER INFORMATION CONTACT section, and this individual will ensure that the written statements are provided to the membership for their consideration. Statements being submitted in response to the agenda items mentioned in this notice must be received by the point of contact listed in the FOR FURTHER INFORMATION CONTACT section at least five calendar days prior to the meeting that is the subject of this notice. Written statements received after this date may not be provided to or considered by the NSEB until its next meeting.

Dated: August 21, 2024.
Aaron T. Siegel,
Alternate OSD Federal Register Liaison Officer, Department of Defense.

[FR Doc. 2024-19133 Filed 8-23-24; 8:45 am]

BILLING CODE 6001-FR-P